DEPARTMENT OF ENERGY

Federal Energy Regulatory Commission

[Project No. 13623-000; Project No. 13375-000]

City of Raleigh; Community Hydro, LLC; Notice of Competing Preliminary Permit Applications Accepted for Filing and Soliciting Comments and Motions To Intervene

March 29, 2010.

The City of Raleigh and Community Hydro, LLC filed preliminary permit applications, pursuant to section 4(f) of the Federal Power Act, proposing to study the feasibility of the Falls Lake Dam Hydroelectric Project located at the existing Falls Lake Dam and Reservoir on the Neuse River, Wake County, North Carolina, near the City of Raleigh, North Carolina. The projects would occupy federal lands under the jurisdiction of the U.S. Army Corps of Engineers. The sole purpose of a preliminary permit, if issued, is to grant the permit holder priority to file a license application during the permit term. A preliminary permit does not authorize the permit holder to perform any land disturbing activities or otherwise enter upon lands or waters owned by others without the owners' express permission.

The proposed Projects description:

The proposed Falls Lake Dam Hydroelectric Project by the City of Raleigh (Project No. 13623-000, filed on November 6, 2009), would have two alternatives. Alternative 1 would consist of: (1) An approximately 100-foot-long by 17.5-foot-diameter steel penstock extension of the existing tunnel; (2) an approximately 175-foot-long by 10-foot-diameter penstock, branching off the 17.5-foot-diameter penstock extension, which bifurcates into two 7-foot-diameter penstocks leading to the turbines; (3) a 70-foot-long by 50-foot-wide new powerhouse containing two turbine-generator units each with an installed capacity of 1,600 kW; (4) a 200-foot-long, 13.2 kV transmission line; and (5) appurtenant facilities. Alternative 1 would have an average annual generation of 8.7 gigawatt-hours. Alternative 2 entails installing two turbine-generators on the intake tower located at the upstream face of the dam. Each turbine-generator would have an installed capacity of 2,450 kW. Alternative 2 would have an average annual generation of 9.3 gigawatt-hours.

The proposed Falls Lake Dam Hydroelectric Project by Community Hydro, LLC (Project No. 13375-000, filed on February 20, 2009, entails installing six turbine-generators on the intake tower located at the upstream face of the dam. The project would have an installed capacity of 2,500 kW and an average annual generation of 8.3 gigawatt-hours.

Applicants Contact: For the City of Raleigh: Mr. Thomas A. McCormick, Raleigh City Attorney, P.O. Box 590, Raleigh, North Carolina 27601, e-mail tom.mccormick@ci.raleigh.nc.us. For Community Hydro, LLC: Lori Barg, Community Hydro, LLC, 113 Bartlett Rd., Plainfield, Vermont 05667, telephone: (802) 454-1874.

FERC Contact: Sergiu Serban, (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13623-000, or 13375-000) in the docket number field to access the document. For assistance, contact FERC Online Support.

Kimberly D. Bose,
Secretary.

[FR Doc. 2010-8060 Filed 4-8-10; 8:45 am]

BILLING CODE 6717-01-P